Title 3—

The President

Proclamation 9851 of March 18, 2019

Greek Independence Day: A National Day of Celebration of Greek and American Democracy, 2019

By the President of the United States of America

A Proclamation

On the 198th anniversary of Greek Independence Day, we celebrate the rich history and enduring bond between the United States and Greece. Our strong alliance and unwavering friendship are rooted in mutual respect and a shared commitment to freedom, justice, and democracy.

The common bond between the United States and Greece is rooted in thousands of years of tradition, stretching back to ancient Greece. The lessons of ancient Greek democracies are among the greatest and most enduring ever taught. From them the world came to know and understand the foundational principles of human liberty, self-government, and the rule of law—the very principles that fueled America's own drive for independence and shaped our Republic. Decades after securing our independence, American citizens expressed their appreciation by supporting the people of Greece in their fight for their own freedom.

Today, our Greek-American partnership is robust and gaining momentum. The inaugural United States-Greece Strategic Dialogue, held last December, and the United States-Greece Commercial Dialogue, held last September, highlighted the strength of the bilateral relationship and bolstered confidence in Greece as a regional leader. We applaud the historic 2019 decision of the Greek Parliament to ratify the Prespa Agreement, which resolved the long-standing naming dispute with North Macedonia. This ratification confirmed Greece's role as a partner with an abiding commitment to advancing stability, security, and prosperity in the region. Additionally, the 2018 Thessaloniki International Fair forged opportunities for enhanced collaboration in technology, enterprise, and innovation.

Our common vision for a peaceful and prosperous region is particularly evident in our ongoing defense relationship. The rotation of NATO aircraft and equipment through Thessaloniki and Alexandroupoli, the complex bilateral training events, and the availability of Souda Bay for the naval forces of the United States reflect mutually beneficial cooperation to ensure our mutual strength and security. Our bilateral relationship has also afforded many opportunities to support partnerships and initiatives that address the areas of defense and security, law enforcement and counterterrorism, and energy security and diversification.

The strong people-to-people ties that undergird our friendship also serve to fortify our alliance. We continue to identify opportunities to increase student and professional exchanges and English language programs. These programs make tremendous contributions to the economic, cultural, and political power of our two great democracies. This summer, we will launch the Future Leaders Exchange (FLEX) Program with Greece to develop the next generation of leaders who will sustain and enhance our strong partnership.

On this day, we honor the shared values that bind our two countries as faithful allies and friends, and we recognize the profound impact Greek-Americans have had on every aspect of our culture. Together, recalling the spirit of the ancient Greeks, we reaffirm our abiding belief that democratic institutions offer the greatest opportunity to safeguard human rights, dignity, and freedom for all.

NOW, THEREFORE, I, DONALD J. TRUMP, President of the United States of America, by virtue of the authority vested in me by the Constitution and the laws of the United States, do hereby proclaim March 25, 2019, as Greek Independence Day: A National Day of Celebration of Greek and American Democracy. I call upon the people of the United States to observe this day with appropriate ceremonies and activities.

IN WITNESS WHEREOF, I have hereunto set my hand this eighteenth day of March, in the year of our Lord two thousand nineteen, and of the Independence of the United States of America the two hundred and forty-third.

[FR Doc. 2019-05541

3-20-19; 8:45 am]

Billing code 3295-F9-P